DEPARTMENT OF HEALTH AND HUMAN SERVICES

Administration for Children and Families

Submission for OMB Review; Comment Request

Title: Child Care and Development Fund Plan for State/Territories.

OMB No.: 0970-0114.

Description: The ACF-118, the Child Care and Development (CCDF) Plan for States and Territories, is required from the child care lead agency by section 658E of the Child Care and Development Block Grant Act of 1990 (Pub. L. 101-508, 42 U.S.C. 9858). The implementing regulations for the Statutorily required Plan are at 45 CFR 98.10 through 98.19. The Plan is required biennially and remains in effect for two years. States/Territories have completed the ACF-118 for the FFY 2000-2001 biennium. However, approval for the ACF-118 expires May 31, 2000. States and Territories may amend during a biennium. Therefore, in order to provide continually for the Plan process, ACF is requesting that the current approval of the ACF-118 be extended through the end of the biennium, i.e., September 30, 2001. The Tribal Plan (ACF-118A) is not affected by this notice.

Respondents: State, Local or Tribal Govt.

Annual Burden Estimates
Instrument | Number of respondents | Number of responses per respondent | Average burden hours per response | Total burden hours
Child Care & Dev. Fund Plan for States/Terr | 56 | .5 | 162.57 | 4,552
Estimated Total Annual Burden Hours |  |  |  | 4,552

Additional Information

Copies of the proposed collection may be obtained by writing to The Administration for Children and Families, Office of Information Services, 370 L'Enfant Promenade, SW, Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW, Washington, DC 20503, Attn: Desk Officer for ACF.

Dated: March 22, 2000.
Bob Sargis,
Reports Clearance Officer.

[FR Doc. 00-7520 Filed 3-27-00; 8:45 am]

BILLING CODE 4184-01-M